NUCLEAR REGULATORY COMMISSION

[Docket No. 50-219; NRC-2011-0287]

Exemption Request Submitted by Oyster Creek Nuclear Generating Station; Exelon Generation Company, LLC

AGENCY: Nuclear Regulatory Commission.

ACTION: Environmental assessment and finding of no significant impact.

SUPPLEMENTARY INFORMATION:

I. Introduction

The U.S. Nuclear Regulatory Commission (NRC) is considering issuance of an exemption from Title 10 of the Code of Federal Regulations (10 CFR) part 50, Appendix E, Section IV.F.2.c, “Training,” for Renewed Facility Operating License No. DPR-16, to delay the requirement to perform the biennial Emergency Preparedness (EP) exercise to June 2012, as requested by Exelon Generation Company, LLC (the licensee), for operation of the Oyster Creek Nuclear Generating Station (Oyster Creek), located in Ocean County, New Jersey. Therefore, as required by 10 CFR 51.21, the NRC performed an environmental assessment (EA). Based on the results of the EA, the NRC is issuing a finding of no significant impact.

II. EA Summary

Identification of the Proposed Action

The proposed action would grant an exemption to 10 CFR Part 50, Appendix E, Section IV.F.2.c to delay the requirement to perform the biennial EP exercise to June 2012. Currently, the licensee is required to complete the exercise by the end of calendar year (CY) 2011. The proposed action is in accordance with the licensee's application dated September 30, 2011 (Agencywide Documents Access and Management System (ADAMS) Accession No. ML112730283).

The Need for the Proposed Action

The proposed exemption from 10 CFR Part 50, Appendix E, was submitted due to the impact of Hurricane Irene on the availability of the State of New Jersey county and local government resources. Due to widespread damage and flooding throughout the area, significant resource commitments were needed from the New Jersey State Office of Emergency Management (OEM), the Ocean County OEM, numerous other State departments, and the Division of State Police. As a result, the necessary participants from State agencies will be unavailable to participate in the exercise by the end of CY 2011. By letter dated August 31, 2011,¹ the Federal Emergency Management Agency (FEMA) agreed to postpone its evaluation of the exercise until June 2012.

¹ This letter was not submitted directly to the NRC, but is included as Attachment 3 to the licensee's exemption request.

Environmental Impacts of the Proposed Action

If the requested exemption were to be approved by the Nuclear Regulatory Commission (NRC), the full participation FEMA-evaluated biennial emergency exercise would not be conducted until June of 2012. Changing the date of the exercise does not alter the way the drill will be performed, and therefore, does not alter any environmental impacts that would be incurred by performance of the drill (e.g., use of roads or highways). Delaying performance of the exercise does not change any facility equipment or operations. Thus, the proposed action would not significantly increase the probability or consequences of an accident, create a new accident, change the types or quantities of radiological effluents that may be released offsite, result in a significant increase in public or occupational radiation exposure.

Environmental Impacts of the Alternatives to the Proposed Action

As an alternative to the proposed action, the NRC staff considered denial of the proposed action (i.e., the no-action alternative). Denial of the application would result in no change in current environmental impacts. The environmental impacts of the proposed action and the alternative action are similar.

Alternative Use of Resources

The action does not involve the use of any different resources than those previously considered in the Final Environmental Statement for Oyster Creek and NUREG-1437, Vol. 1, Supplement 28, “Generic Environmental Impact Statement for License Renewal of Nuclear Plants Regarding Oyster Creek Nuclear Generating Station, Final Report—Main Report,” published in January 2007.

Agencies and Persons Consulted

In accordance with its stated policy, on December 9, 2011, the NRC staff consulted with the New Jersey State official for the Department of Environmental Protection regarding the environmental impact of the proposed action. The State official had no comments.

III. Finding of No Significant Impact

On the basis of the environmental assessment, the NRC concludes that the proposed action will not have a significant effect on the quality of the human environment. Accordingly, the NRC has determined not to prepare an environmental impact statement for the proposed action.

For further details with respect to the proposed action, see the licensee's letter dated September 30, 2011. Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 1-(800) 397-4209 or (301) 415-4737, or send an email to pdr.resource@nrc.gov.

Dated at Rockville, Maryland, this 13th day of December 2011.
For the Nuclear Regulatory Commission.
G. Edward Miller,
Project Manager, Plant Licensing Branch I-2, Division of Operating Reactor Licensing, Office of Nuclear Reactor Regulation.

[FR Doc. 2011-32645 Filed 12-20-11; 8:45 am]

BILLING CODE 7590-01-P